DEPARTMENT OF COMMERCE

International Trade Administration

[A-525-001, A-351-854, A-891-001, A-729-803, A-428-849, A-533-895, A-560-835, A-475-842, A-523-814, A-485-809, A-801-001, A-856-001, A-791-825, A-469-820, A-583-867, A-489-839]

Common Alloy Aluminum Sheet From Bahrain, Brazil, Croatia, Egypt, Germany, India, Indonesia, Italy, Oman, Romania, Serbia, Slovenia, South Africa, Spain, Taiwan and the Republic of Turkey: Antidumping Duty Orders

AGENCY: Enforcement and Compliance, International Trade Administration, Department of Commerce.

SUMMARY: Based on affirmative final determinations by the Department of Commerce (Commerce) and the International Trade Commission (ITC), Commerce is issuing antidumping duty orders on Common Alloy Aluminum Sheet (aluminum sheet) from Bahrain, Brazil, Croatia, Egypt, Germany, India, Indonesia, Italy, Oman, Romania, Serbia, Slovenia, South Africa, Spain, Taiwan, and the Republic of Turkey (Turkey).

DATES: Applicable April 27, 2021.

FOR FURTHER INFORMATION CONTACT: Allison Hollander at (202) 482-2805 (Bahrain); Shanah Lee at (202) 482-6386 (Brazil); Irene Gorelik at (202) 482-6905 (Croatia); Magd Zalok at (202) 482-4162 (Egypt); Jonathan Hill at (202) 482-3518 (Germany); Jasun Moy at (202) 482-8194 (India); Preston Cox at (202) 482-5041 (Indonesia); Elfi Blum at (202) 482-0197 (Italy); Chelsey Simonovich at (202) 482-1979 (Oman); Krisha Hill at (202) 482-4037 (Romania); Katherine Johnson at (202) 482-4929 (Serbia); Faris Montgomery at (202) 482-2805 (Slovenia); Laurel LaCivita at (202) 482-4243 (South Africa); Whitley Herndon at (202) 482-6247 (Spain); Kathryn Turlo at (202) 482-3870 (Taiwan); and Sean Carey at (202) 482-3964 (Turkey); AD/CVD Operations, Enforcement and Compliance, International Trade Administration, U.S. Department of Commerce, 1401 Constitution Avenue NW, Washington, DC 20230.

SUPPLEMENTARY INFORMATION:

Background

On March 8, 2021, Commerce published its affirmative final determinations in the less-than-fair-value (LTFV) investigations of aluminum sheet from Bahrain, Brazil, Croatia, Egypt, Germany, India, Indonesia, Italy, Oman, Romania, Serbia, Slovenia, South Africa, Spain, Taiwan, and Turkey.¹ On April 20, 2021, the ITC notified Commerce of its final determinations, pursuant to section 735(d) of the Tariff Act of 1930, as amended (the Act), that an industry in the United States is materially injured within the meaning of section 735(b)(1)(A)(i) of the Act by reason of LTFV imports of aluminum sheet from Bahrain, Brazil, Croatia, Egypt, Germany, India, Indonesia, Italy, Oman, Romania, Serbia, Slovenia, South Africa, Spain, Taiwan, and Turkey, and its negative critical circumstances finding with respect to dumped imports of aluminum sheet from Indonesia.²

¹ See Common Alloy Aluminum Sheet From Bahrain: Final Affirmative Determination of Sales at Less Than Fair Value, 86 FR 13331 (March 8, 2021); Common Alloy Aluminum Sheet From Brazil: Final Affirmative Determination of Sales at Less Than Fair Value, 86 FR 13302 (March 8, 2021); Common Alloy Aluminum Sheet From Croatia: Final Affirmative Determination of Sales at Less Than Fair Value, 86 FR 13312 (March 8, 2021); Common Alloy Aluminum Sheet From Egypt: Final Affirmative Determination of Sales at Less Than Fair Value, 86 FR 13324 (March 8, 2021); Common Alloy Aluminum Sheet From Germany: Final Affirmative Determination of Sales at Less Than Fair Value, 86 FR 13318 (March 8, 2021); Common Alloy Aluminum Sheet From India: Final Affirmative Determination of Sales at Less Than Fair Value, 86 FR 13282 (March 8, 2021); Common Alloy Aluminum Sheet From Indonesia: Final Affirmative Determination of Sales at Less Than Fair Value, and Final Affirmative Finding of Critical Circumstances, 86 FR 13304 (March 8, 2021); Common Alloy Aluminum Sheet From Italy: Final Affirmative Determination of Sales at Less Than Fair Value, 86 FR 13311 (March 8, 2021); Common Alloy Aluminum Sheet From Romania: Final Affirmative Determination of Sales at Less Than Fair Value, 86 FR 13320 (March 8, 2021); Common Alloy Aluminum Sheet From Serbia: Final Affirmative Determination of Sales at Less Than Fair Value, 86 FR 13295 (March 8, 2021) ; Common Alloy Aluminum Sheet From Slovenia: Final Affirmative Determination of Sales at Less Than Fair Value, 86 FR 13305 (March 8, 2021); Common Alloy Aluminum Sheet From South Africa: Final Affirmative Determination of Sales at Less Than Fair Value, 86 FR 13287 (March 8, 2021); Common Alloy Aluminum Sheet From Spain: Final Affirmative Determination of Sales at Less Than Fair Value, 86 FR 13298 (March 8, 2021); Common Alloy Aluminum Sheet From Taiwan: Final Affirmative Determination of Sales at Less Than Fair Value, 86 FR 13293 (March 8, 2021); Common Alloy Aluminum Sheet From Oman: Final Affirmative Determination of Sales at Less Than Fair Value, 86 FR 13328 (March 8, 2021); Common Alloy Aluminum Sheet From Turkey: Final Affirmative Determination of Sales at Less Than Fair Value, 86 FR 13326 (March 8, 2021) (collectively Final Determinations). The final affirmative determination for Turkey was inadvertently published under the case number for Italy (A-475-842). The correct case number for Turkey is A-489-839.

² See ITC Notification Letter, Investigation Nos. 701-TA-639 and 641-642 and 731-TA-1475-1479, 1481-1483, and 1485-1492 (Final) dated April 20, 2021 (ITC Notification Letter).

Scope of the Orders

The products covered by these orders are aluminum sheet from Bahrain, Brazil, Croatia, Egypt, Germany, India, Indonesia, Italy, Oman, Romania, Serbia, Slovenia, South Africa, Spain, Taiwan, and Turkey. For a complete description of the scope of these orders, see the appendix to this notice.

Antidumping Duty Orders

On April 20, 2021, in accordance with section 735(d) of the Act, the ITC notified Commerce of its final determinations in these investigations, in which it found that an industry in the United States is materially injured by reason of imports of aluminum sheet from Bahrain, Brazil, Croatia, Egypt, Germany, India, Indonesia, Italy, Oman, Romania, Serbia, Slovenia, South Africa, Spain, Taiwan, and Turkey.³ Therefore, in accordance with section 735(c)(2) of the Act, Commerce is issuing these antidumping duty orders. Because the ITC determined that imports of aluminum sheet from Bahrain, Brazil, Croatia, Egypt, Germany, India, Indonesia, Italy, Oman, Romania, Serbia, Slovenia, South Africa, Spain, Taiwan, and Turkey are materially injuring a U.S. industry, unliquidated entries of such merchandise from Bahrain, Brazil, Croatia, Egypt, Germany, India, Indonesia, Italy, Oman, Romania, Serbia, Slovenia, South Africa, Spain, Taiwan, and Turkey, entered or withdrawn from warehouse for consumption, are subject to the assessment of antidumping duties.

³ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of aluminum sheet from Bahrain, Brazil, Croatia, Egypt, Germany, India, Indonesia, Italy, Oman, Romania, Serbia, Slovenia, South Africa, Spain, Taiwan, and Turkey. With the exception of entries occurring after the expiration of the provisional measures period and before publication of the ITC's final affirmative injury determinations, as further described below, antidumping duties will be assessed on unliquidated entries of aluminum sheet from Bahrain, Brazil, Croatia, Egypt, Germany, India, Indonesia, Italy, Oman, Romania, Serbia, Slovenia, South Africa, Spain, Taiwan, and Turkey entered, or withdrawn from warehouse, for consumption, on or after October 15, 2020, the date of publication of the Preliminary Determinations.⁴

⁴ See Common Alloy Aluminum Sheet From Bahrain: Preliminary Affirmative Determination of Sales at Less Than Fair Value, Postponement of Final Determination, and Extension of Provisional Measures, 85 FR 65372 (October 15, 2020); Common Alloy Aluminum Sheet From Brazil: Preliminary Affirmative Determination of Sales at Less Than Fair Value, Postponement of Final Determination, and Extension of Provisional Measures 85 FR 65363 (October 15, 2020); Common Alloy Aluminum Sheet From Croatia: Preliminary Affirmative Determination of Sales at Less Than Fair Value, Postponement of Final Determination, and Extension of Provisional Measures, 85 FR 65384 (October 15, 2020) ; Common Alloy Aluminum Sheet From Egypt: Preliminary Affirmative Determination of Sales at Less Than Fair Value, Postponement of Final Determination, and Extension of Provisional Measures, 85 FR 65382 (October 15, 2020); Common Alloy Aluminum Sheet From Germany: Preliminary Affirmative Determination of Sales at Less Than Fair Value, Postponement of Final Determination, and Extension of Provisional Measures, 85 FR 65386 (October 15, 2020); Common Alloy Aluminum Sheet From India: Preliminary Affirmative Determination of Sales at Less Than Fair Value, Postponement of Final Determination, and Extension of Provisional Measures, 85 FR 65377 (October 15, 2020); Common Alloy Aluminum Sheet From Indonesia: Preliminary Affirmative Determination of Sales at Less Than Fair Value, Preliminary Affirmative Determination of Critical Circumstances, 85 FR 65356 (October 15, 2020) (Indonesia Preliminary Determination); Common Alloy Aluminum Sheet From Italy: Preliminary Affirmative Determination of Sales at Less Than Fair Value, Postponement of Final Determination, and Extension of Provisional Measures, 85 FR 65342 (October 15, 2020); Common Alloy Aluminum Sheet From the Sultanate of Oman: Preliminary Affirmative Determination of Sales at Less Than Fair Value, Negative Determination of Critical Circumstances, and Postponement of Final Determination, 85 FR 65340 (October 15, 2020); Common Alloy Aluminum Sheet From Romania: Preliminary Affirmative Determination of Sales at Less Than Fair Value, 85 FR 65358 (October 15, 2020); Common Alloy Aluminum Sheet From Serbia: Preliminary Affirmative Determination of Sales at Less Than Fair Value, Postponement of Final Determination, and Extension of Provisional Measures, 85 FR 65370 (October 15, 2020); Common Alloy Aluminum Sheet From Slovenia: Preliminary Affirmative Determination of Sales at Less Than Fair Value, Postponement of Final Determination, and Extension of Provisional Measures, 85 FR 65349 (October 15, 2020); Common Alloy Aluminum Sheet From South Africa: Preliminary Affirmative Determination of Sales at Less Than Fair Value, Postponement of Final Determination, and Extension of Provisional Measures, 85 FR 65351 (October 15, 2020); Common Alloy Aluminum Sheet From Spain: Preliminary Affirmative Determination of Sales at Less Than Fair Value, Postponement of Final Determination, and Extension of Provisional Measures, 85 FR 65367 (October 15, 2020); Common Alloy Aluminum Sheet From Taiwan: Preliminary Affirmative Determination of Sales at Less Than Fair Value, Preliminary Negative Determination of Critical Circumstances, Postponement of Final Determination, and Extension of Provisional Measures, 85 FR 65361 (October 15, 2020); Common Alloy Aluminum Sheet From Turkey: Preliminary Affirmative Determination of Sales at Less Than Fair Value, Preliminary Negative Determination of Critical Circumstances, Postponement of Final Determination, and Extension of Provisional Measures, 85 FR 65346 (October 15, 2020) (collectively, Preliminary Determinations).

Continuation of Suspension of Liquidation

Except as noted in the “Provisional Measures” section of this notice, in accordance with section 735(c)(1)(B) of the Act, Commerce will instruct CBP to continue to suspend liquidation on all relevant entries of aluminum sheet from Bahrain, Brazil, Croatia, Egypt, Germany, India, Indonesia, Italy, Oman, Romania, Serbia, Slovenia, South Africa, Spain, Taiwan and Turkey. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The relevant all-others rate applies to all producers or exporters not specifically listed.

Because the estimated weighted-average dumping margin is zero for subject merchandise produced and exported by Manaksia Aluminium Company Limited, entries of shipments of subject merchandise from this producer/exporter combination are excluded from the antidumping duty order on subject merchandise from India. Because the estimated weighted-average dumping margin is zero for subject merchandise produced and exported by Laminazione Sottile S.p.A., entries of shipments of subject merchandise from this producer/exporter combination are excluded from the antidumping duty order on subject merchandise from Italy. These exclusions will not be applicable to merchandise exported to the United States by these respondents in any other producer/exporter combination or by third parties that sourced subject merchandise from the excluded producer/exporter combinations.

Critical Circumstances

With regard to the ITC's negative critical circumstances determination on imports of aluminum sheet from Indonesia, we will instruct CBP to lift suspension and to refund any cash deposits made to secure the payment of estimated antidumping duties with respect to entries of the subject merchandise entered, or withdrawn from warehouse, for consumption on or after July 17, 2020 (i.e., 90 days prior to the date of the publication of the Indonesia Preliminary Determination), but before October 15, 2020 (i.e., the date of publication of the Indonesia Preliminary Determination).

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of aluminum sheet from Bahrain, Brazil, Croatia, Egypt, Germany, India, Indonesia, Italy, Oman, Romania, Serbia, Slovenia, South Africa, Spain, Taiwan, and Turkey, Commerce extended the four-month period to six months in each of these investigations. Commerce published the preliminary determinations in these investigations on October 15, 2020.⁵

⁵ See Preliminary Determinations, and Common Alloy Aluminum Sheet from Indonesia and Romania: Postponement of Final Determinations of Less-Than-Fair-Value Investigations, 85 FR 1049 (November 6, 2020).

The extended provisional measures period, beginning on the date of publication of the Preliminary Determinations, ends on April 12, 2021. Therefore, in accordance with section 733(d) of the Act and our practice,⁶ Commerce will instruct CBP to terminate the suspension of liquidation and to liquidate, without regard to antidumping duties, unliquidated entries of aluminum sheet from Bahrain, Brazil, Croatia, Egypt, Germany, India, Indonesia, Italy, Oman, Romania, Serbia, Slovenia, South Africa, Spain, Taiwan, and Turkey entered, or withdrawn from warehouse, for consumption after April 12, 2021, the final day on which the provisional measures were in effect, until and through the day preceding the date of publication of the ITC's final affirmative injury determinations in the Federal Register. Suspension of liquidation and the collection of cash deposits will resume on the date of publication of the ITC's final determinations in the Federal Register.

⁶ See, e.g., Certain Corrosion-Resistant Steel Products from India, India, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

Bahrain
Exporter/producer | Estimated weighted-average dumping margin (percent)
Gulf Aluminium Rolling Mill B.S.C. (GARMCO) | 4.83
All Others | 4.83

Brazil
Exporter/producer | Weighted-average dumping margin (percent)
Companhia Brasileiro de Aluminio | 137.06
Novelis do Brasil Ltda | 49.61
All Others | 49.61

Croatia
Exporter/producer | Estimated weighted-average dumping margin (percent)
Impol d.o.o./Impol-TLM d.o.o.⁷ | 3.19
All Others | 3.19

Egypt
Exporter/producer | Estimated weighted-average dumping margin (percent)
Aluminium Co. of Egypt (Egyptalum)/Egyptian Copper Works Company | 12.11
All Others | 12.11

Germany
Exporter/producer | Estimated weighted-average dumping margin (percent)
Hydro Aluminium Rolled Products GmbH | 242.80
Novelis Deutschland GmbH | 49.40
All Others | 49.40

India
Exporter/producer | Estimated weighted-average dumping margin (percent) | Cash deposit rate (adjusted for subsidy offsets) (percent)
Hindalco Industries Limited | 47.92 | 44.64
Manaksia Aluminium Company Limited | 0.00 | 0.00
All Others | 47.92 | 44.64

Indonesia
Exporter/producer | Estimated dumping margin (percent)
Pt. Alumindo Light Metal Industry Tbk | 32.12
All Others | 32.12

Italy
Exporter/producer | Estimated weighted-average dumping margin (percent)
Laminazione Sottile S.p.A. | 0.00
Profilglass S.p.A | 29.13
All Others | 14.57

Oman
Exporter/producer | Estimated weighted-average dumping margin (percent)
Oman Aluminium Rolling Company | 5.29
All Others | 5.29

Romania
Exporter/producer | Estimated dumping margin (percent)
Alro, SA ⁸ | 37.26
All Others | 12.51

Serbia
Exporter/producer | Estimated weighted-average dumping margin (percent)
Impol d.o.o./Impol Seval, a.d.⁹ | 11.67
Otovici Doo | 25.84
All Others | 11.67

Slovenia
Exporter/producer | Estimated weighted-average dumping margin (percent)
Impol d.o.o./Impol FT, d.o.o.¹⁰ | 13.43
All Others | 13.43

South Africa
Exporter/producer | Estimated weighted-average dumping margin (percent)
Hulamin Operations (Pty) Ltd | 8.85
All Others | 8.85

Spain
Exporter/producer | Estimated weighted-average dumping margin (percent)
Aludium Transformacion de Productos, S.L | 3.80
Compania Valenciana de Aluminio Baux S.L.U./Bancolor Baux S.L.U | 24.23
All Others | 3.80

Taiwan
Exporter/producer | Estimated weighted-average dumping margin (percent)
C.S. Aluminium Corporation | 17.50
All Others | 17.50

Turkey
Exporter/producer | Estimated weighted-average dumping margin (percent)
Assan Aluminyum Sanayi ve Ticaret A.S | 2.02
Teknik Aluminyum Sanayi A.S | 13.56
All Others | 4.85

Notification to Interested Parties

⁷ The final rate calculated for Impol applies to subject merchandise produced by Impol-TLM d.o.o. and exported by either Impol-TLM d.o.o. (Croatia) or Impol d.o.o. (Slovenia).

⁸ On April 8, 2020, Alro, SA and its affiliate Vimetco Management Romania, SRL, notified Commerce that “Vimetco Group” is not a legal entity but that the name reflects a collection of companies including Alro, SA. Additionally, Alro, SA noted that its name is “Alro, SA” rather than “Alro, S.A.” as stated in the Initiation Notice. See Alro, SA's Letter, “Common Alloy Aluminum Sheets from Romania, A-385-809; Clarification of Company Names,” dated April 8, 2020. Given that Vimetco Group is not a legal entity but refers to a group of companies in which Alro, SA is the only producer, seller, and exporter of aluminum sheet, we have assigned the dumping rate to Alro, SA.

⁹ The final rate calculated for Impol applies to subject merchandise produced by Impol Seval and exported by either Impol Seval (Serbia) or Impol d.o.o. (Slovenia).

¹⁰ The final rate calculated for Impol applies to subject merchandise produced by Impol FT, d.o.o. and exported by either Impol FT, d.o.o. or Impol d.o.o.

This notice constitutes the antidumping duty orders with respect to aluminum sheet from Bahrain, Brazil, Croatia, Egypt, Germany, India, Indonesia, Italy, Oman, Romania, Serbia, Slovenia, South Africa, Spain, Taiwan, and Turkey pursuant to section 736(a) of the Act. Interested parties can find a list of antidumping duty orders currently in effect at http://enforcement.trade.gov/stats/iastats1.html.

These antidumping duty orders are published in accordance with sections 735(e) and 736(a) of the Act and 19 CFR 351.224(e) and 19 CFR 351.211(b).

Dated: April 21, 2021.
Christian Marsh,
Acting Assistant Secretary for Enforcement and Compliance.

Appendix

Scope of the Orders

The products covered by these orders are common alloy aluminum sheet, which is a flat-rolled aluminum product having a thickness of 6.3 mm or less, but greater than 0.2 mm, in coils or cut-to-length, regardless of width. Common alloy sheet within the scope of these orders includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of these orders if performed in the country of manufacture of the common alloy sheet.

Excluded from the scope of these orders is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of these orders may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of these orders is dispositive.

[FR Doc. 2021-08713 Filed 4-26-21; 8:45 am]

BILLING CODE 3510-DS-P